DEPARTMENT OF JUSTICE

Bureau of Alcohol, Tobacco, Firearms and Explosives

[OMB 1140-0036]

Agency Information Collection Activities; Proposed eCollection of eComments Requested; Revision of a Currently Approved Collection; FFL Out of Business Records Request—ATF Form 5300.3A

AGENCY: Bureau of Alcohol, Tobacco, Firearms and Explosives, Department of Justice.

ACTION: 60-Day notice.

SUMMARY: The Bureau of Alcohol, Tobacco, Firearms and Explosives (ATF), Department of Justice (DOJ) will submit the following information collection request to the Office of Management and Budget (OMB) for review and approval in accordance with the Paperwork Reduction Act of 1995. The proposed collection OMB 1140-0036 (FFL Out of Business Records Request—ATF F 5300.3A) is being revised to include updated contact information, make minor changes in wording to improve form clarity, and identify an increase in the total burden hours since the last renewal in 2018. The proposed information collection is also being published to obtain comments from the public and affected agencies.

DATES: Comments are encouraged and will be accepted for 60 days until October 12, 2021.

FOR FURTHER INFORMATION CONTACT: If you have additional comments regarding the estimated public burden or associated response time, suggestions, or need a copy of the proposed information collection instrument with instructions, or additional information, please contact: Matthew S. Grim, Tracing Operations & Records Mgt. Branch, National Tracing Center Division either by mail at ATF National Services Center, 244 Needy Road, Martinsburg, WV 25405, by email at matthew.grim@atf.gov, or by telephone at 304-260-3683.

SUPPLEMENTARY INFORMATION: Written comments and suggestions from the public and affected agencies concerning the proposed collection of information are encouraged. Comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: FFL Out of Business Records Request.

3. The agency form number, if any, and the applicable component of the Department sponsoring the collection:

Form number (if applicable): ATF Form 5300.3A.

Component: Bureau of Alcohol, Tobacco, Firearms and Explosives, U.S. Department of Justice.

4. Affected public who will be asked or required to respond, as well as a brief abstract:

Primary: Business or other for-profit.

Other (if applicable): None.

Abstract: The FFL Out of Business Records Request—ATF Form 5300.3A is used to notify Federal firearms licensees (FFLs) who go out of business to submit their firearms records to the Bureau of Alcohol, Tobacco, Firearms and Explosives (ATF) if the business discontinuance is absolute. FFLs can also use the form to notify ATF of a successor business that will maintain control of the firearms records.

5. An estimate of the total number of respondents and the amount of time estimated for an average respondent to respond: A combined 4,297 respondents will use the form and then package and ship/deliver business records to ATF following business discontinuance. It will take a combined total of 5 minutes for respondents to prepare the form and an additional 11 hours to package and then ship/deliver business records to ATF.

6. An estimate of the total public burden (in hours) associated with the collection: The combined estimated annual public burden associated with this collection is 47,523 hours, which is equal to 3,066 (# of respondents who completed the form) * 0.0833333 (5 minutes or the total time to complete each form) + 4,297 (# of respondents who ship/deliver records) *11 hours (time taken to package ship/deliver records to ATF).

7. An Explanation of the Change in Estimates: Since the last renewal in 2018, the total responses and mailing costs decreased from 4,607 to 4,297 and from $ 2,243,013 to $ 2,098,869 respectively, due to fewer FFLs going out of business. However, the total burden increased to 47,523 hours because it took each FFL more time to prepare an average 7 boxes of business records in 2020, compared to an estimated 4 boxes of records in 2018.

If additional information is required contact: Melody Braswell, Department Clearance Officer, United States Department of Justice, Justice Management Division, Policy and Planning Staff, Two Constitution Square, 145 N Street NE, Mail Stop 3E.405A, Washington, DC 20530.

Dated: August 9, 2021.
Melody Braswell,
Department Clearance Officer for PRA, U.S. Department of Justice.

[FR Doc. 2021-17287 Filed 8-12-21; 8:45 am]

BILLING CODE 4410-FY-P